CORPORATION FOR NATIONAL AND COMMUNITY SERVICE

Agency Information Collection Activities; Submission to the Office of Management and Budget for Review and Approval; Comment Request; AmeriCorps Program Life Cycle Evaluation—Opioid Recovery Coach Model Bundled Evaluation

AGENCY: Corporation for National and Community Service.

ACTION: Notice of information collection; request for comment.

SUMMARY: The Corporation for National and Community Service, operating as AmeriCorps, has submitted a public information collection request (ICR) entitled AmeriCorps Program Life Cycle Evaluation—Opioid Recovery Coach Model Bundled Evaluation for review and approval in accordance with the Paperwork Reduction Act.

DATES: Written comments must be submitted to the individual and office listed in the ADDRESSES section by August 26, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Xiaodong Zhang, at 703-251-0883 or by email to xiaodong.zhang@icf.com.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on May 17, 2021 at 26702-26703. This comment period ended July 16, 2021. No public comments were received from this Notice.

Title of Collection: AmeriCorps Program Life Cycle Evaluation—Opioid Recovery Coach Model Bundled Evaluation.

OMB Control Number: TBD. Type of Review: New.

Respondents/Affected Public: Grantees, program implementers, volunteer organizations and volunteers.

Total Estimated Number of Annual Responses: 422 respondents.

Total Estimated Number of Annual Burden Hours: 218 hours.

Abstract: The purpose of this evaluation is to study questions regarding grantees' use of the peer recovery coach model and better determine how effective the model is at increasing individuals' recovery capital, increasing attendance of health services, and decreasing incidence of substance use as well as on the peer recovery coaches and grantee organizations. The research questions for this evaluation are:

1. Determine what recovery coach models look like (activity, setting, modality, etc.).

2. Describe promising practices and challenges in implementing these models.

3. Measure the effectiveness of the recovery coach model in improving outcomes for grantee organizations, recovery coaches, and beneficiaries.

AmeriCorps will conduct a bundled evaluation of grantees that are implementing opioid recovery coaching models. Bundling allows AmeriCorps to combine a group of small programs across different funding streams with similar program models and intended outcomes into a single evaluation. Spanning 27 months, the evaluation will work with 14 grantees to examine program design, implementation, and outcomes using surveys, interviews, and focus groups with a wide range of stakeholders, including grantee staff, volunteers who support the peer recovery coach model, beneficiaries, and staff at organizations which partner with grantees. This is a new information collection.

Dated: July 21, 2021.
Mary Hyde,
Director, Office of Research and Evaluation.

[FR Doc. 2021-15913 Filed 7-26-21; 8:45 am]

BILLING CODE 6050-28-P